DEPARTMENT OF DEFENSE

Department of the Air Force

[Docket ID: USAF-2009-0013]

Privacy Act of 1974; System of Records

AGENCY: Department of the Air Force, DoD.

ACTION: Notice to alter a system of records.

SUMMARY: The Department of the Air Force is proposing to alter a system of records notice in its existing inventory of record systems subject to the Privacy Act of 1974, (5 U.S.C. 552a), as amended.

DATES: This proposed action will be effective without further notice on February 25, 2009, unless comments are received which result in a contrary determination.

ADDRESSES: Send comments to the Air Force Privacy Act Officer, Office of Warfighting Integration and Chief Information Officer, SAF/XCPPI, 1800 Air Force Pentagon, Washington, DC 20330-1800.

FOR FURTHER INFORMATION CONTACT: Mr. Kenneth Brodie at (703) 696-7557.

SUPPLEMENTARY INFORMATION: The Department of the Air Force systems of records notices subject to the Privacy Act of 1974, (5 U.S.C. 552a), as amended, have been published in the Federal Register and are available from the address above.

The proposed system report, as required by 5 U.S.C. 552a(r) of the Privacy Act of 1974, as amended, was submitted on January 14, 2009, to the House Committee on Oversight and Government Reform, the Senate Committee on Homeland Security and Governmental Affairs, and the Office of Management and Budget (OMB) pursuant to paragraph 4c of Appendix I to OMB Circular No. A-130, ‘Federal Agency Responsibilities for Maintaining Records About Individuals,’ dated February 8, 1996 (February 20, 1996, 61 FR 6427).

Dated: January 15, 2009.
Morgan E. Frazier,
Alternate OSD Federal Register Liaison Officer, Department of Defense.

F036 AETC A

System name:

Lead Management System (LMS) (October 16, 1997, 62 FR 53825).

Changes:

* * * * *

System name:

Delete entry and replace with “Lead Management System Records.”

Categories of individuals covered by the system:

Delete entry and replace with “Prospective Air Force enlisted and officer personnel entering Active and Guard duty.”

Categories of records in the system:

Delete entry and replace with “Name, Social Security Number (SSN), date of birth, mailing address, gender, telephone number, service number, recruiting program in which interested and source of referral, including name and Air Force base assigned.”

* * * * *

Purpose(s):

Delete entry and replace with “The system will notify field recruiters of prospective Active and Guard applicants who have requested information and provide a central environment for storing recruiter contact records. Analysis of the data provides insight into which leads converted or cancelled, why they cancelled or converted, and what recruitment efforts generated high conversion rates. Summaries are used to evaluate the effectiveness of the advertising and referral programs.”

* * * * *

Storage:

Delete entry and replace with “Paper records and electronic storage media.”

Retrievability:

Delete entry and replace with “By name, Social Security Number (SSN), home address or date of birth.”

Safeguards:

Delete entry and replace with “Records are maintained in a controlled facility. Records are stored in locked rooms, cabinets, and computers. Access to computerized data is restricted by passwords, which are changed periodically. Access is limited to person(s) responsible with a need to know for servicing the system of record in performance of their official duties and those authorized personnel who are properly screened and cleared.”

Retention and disposal:

Delete entry and replace with “Retained for two years after end of fiscal year in which all actions are completed, and then records are destroyed by tearing into pieces, shredding, pulping, macerating or burning. Computer records are destroyed by erasing, deleting or overwriting.”

System manager(s) and address:

Delete entry and replace with “Chief, Strategic Communications Division, Headquarters, U.S. Air Force Recruiting Service, 550 D Street West, Suite 1, Randolph Air Force Base, TX 78150-4527.”

Notification procedure:

Delete entry and replace with “Individuals seeking to determine whether this system of records contains information on themselves should address written inquiries to the Chief, Advertising Branch, Headquarters, U.S. Air Force Recruiting Service, 550 D Street West, Suite 01, Randolph Air Force Base, TX 78150-4527.

The individual should provide complete name, address, Social Security Number (SSN), date of birth, service number, and signature certified/verified by a notary public.”

Record access procedures:

Delete entry and replace with “Individuals seeking access to information about themselves contained in this system should address written inquiries to the Operations Division, Headquarters, Air Force Recruiting Service, 550 D Street West, Suite 1, Randolph AFB, TX 78150-4527.

The individual should provide complete name, address, Social Security Number (SSN), date of birth, service number, and signature certified/verified by a notary public.”

* * * * *

F036 AETC A

System name:

Lead Management System Records.

System location:

Headquarters, Air Force Recruiting Service, 550 D Street, Suite 01, Randolph Air Force Base, TX 78150-4527, and a contracted advertising agency provide recruitment advertising for the Air Force—location depends on the contractor.

Air Force Opportunity Center (AFOC). Contact the system manager for specific locations.

Air Force Recruiting activities. Official mailing addresses are published as an appendix to the Air Force's compilation of systems of records notices.

Categories of individuals in the system:

Prospective Air Force enlisted and officer personnel entering Active and Guard duty.

Categories of records in the system:

Name, Social Security Number (SSN), date of birth, mailing address, gender, telephone number, service number, recruiting program in which interested and source of referral, including name and Air Force base assigned.

Authority for maintenance of the system:

10 U.S.C. 8013, Secretary of the Air Force; 10 U.S.C. 503, Enlistments; Air Education and Training Command Instruction 36-2002 and E.O. 9397 (SSN).

Purpose(s):

The system will notify field recruiters of prospective Active and Guard applicants who have requested information and provide a central environment for storing recruiter contact records. Analysis of the data provides insight into which leads converted or cancelled, why they cancelled or converted, and what recruitment efforts generated high conversion rates. Summaries are used to evaluate the effectiveness of the advertising and referral programs.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

The ‘Blanket Routine Uses’ published at the beginning of the Air Force's compilation of record system notices apply to this system.

Policies and practices for storing, retrieving, accessing, retaining, and disposing of records in the system:

Storage:

Paper records and electronic storage media.

Retrievability:

By name, Social Security Number (SSN), home address or date of birth.

Safeguards:

Records are maintained in a controlled facility. Records are stored in locked rooms, cabinets, and computers. Access to computerized data is restricted by passwords, which are changed periodically. Access is limited to person(s) responsible with a need to know for servicing the system of record in performance of their official duties and those authorized personnel who are properly screened and cleared.

Retention and disposal:

Retained for two years after end of fiscal year in which all actions are completed, and then records are destroyed by tearing into pieces, shredding, pulping, macerating or burning. Computer records are destroyed by erasing, deleting or overwriting.

System manager(s) and address:

Chief, Strategic Communications Division, Headquarters, U.S. Air Force Recruiting Service, 550 D Street West, Suite 1, Randolph Air Force Base, TX 78150-4527.

Notification procedure:

Individuals seeking to determine whether this system of records contains information on themselves should address written inquiries to the Chief, Advertising Branch, Headquarters, U.S. Air Force Recruiting Service, 550 D Street West, Suite 01, Randolph Air Force Base, TX 78150-4527.

The individual should provide complete name, address, Social Security Number (SSN), date of birth, service number, and signature certified/verified by a notary public.

Record access procedures:

Individuals seeking access to information about themselves contained in this system should address written inquiries to the Operations Division, Headquarters, Air Force Recruiting Service, 550 D Street West, Suite 1, Randolph AFB, TX 78150-4527.

The individual should provide complete name, address, Social Security Number (SSN), date of birth, service number, and signature certified/verified by a notary public.

Contesting record procedures:

The Air Force rules for accessing records, and for contesting contents and appealing initial agency determinations are published in Air Force Instruction 37-132; 32 CFR part 806b; or may be obtained from the system manager.

Record source categories:

Individual respondent and automated system interfaces.

Exemptions claimed for the system:

None.

[FR Doc. E9-1436 Filed 1-23-09; 8:45 am]

BILLING CODE 5001-06-P